DEPARTMENT OF THE INTERIOR

National Park Service

[NPS-WASO-NAGPRA-NPS0030991; PPWOCRADN0-PCU00RP14.R50000]

Notice of Intent To Repatriate Cultural Items: University of California Berkeley, Berkeley, CA

AGENCY: National Park Service, Interior.

ACTION: Notice.

SUMMARY: The University of California Berkeley, in consultation with the appropriate Indian Tribes or Native Hawaiian organizations, has determined that the cultural items listed in this notice meet the definition of sacred objects and objects of cultural patrimony. Lineal descendants or representatives of any Indian Tribe or Native Hawaiian organization not identified in this notice that wish to claim these cultural items should submit a written request to the Office of the Vice Chancellor for Research, University of California Berkeley. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Office of the Vice Chancellor for Research, University of California Berkeley at the address in this notice by November 16, 2020.

ADDRESSES: Dr. Thomas Torma, NAGPRA Liaison, Office of the Vice Chancellor for Research, University of California Berkeley, 119 California Hall, Berkeley, CA 94720-1500, telephone (510) 672-5388, email t.torma@berkeley.edu.

SUPPLEMENTARY INFORMATION: Notice is here given in accordance with the Native American Graves Protection and Repatriation Act (NAGPRA), 25 U.S.C. 3005, of the intent to repatriate cultural items under the control of the University of California Berkeley, Berkeley, CA, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1906, seven cultural items were removed from the home of Ms. Julia Gates, which was located near Salmon Creek in Humboldt County, CA. The items are one feather head ornament, two pipes, two scabbards, one belt, and one fawn skin casing. They were “picked up” by Alfred Kroeber from Ms. Gates' home when she was an “old, blind woman.” Julia Gates was a well-known healer and a leader in the Wiyot community. The items are part of a set of doctoring regalia used in the practice of traditional healing and in tribal ceremonies. Based on consultation with the Wiyot Tribe, California, these seven sacred objects items are also objects of cultural patrimony.

Sometime before 1907, six cultural items were removed from the home of Julia Gates, which was located near Salmon Creek in Humboldt County, CA. The items are one set of condor feather hair ties, two condor feathers, one pipe, one pipe scabbard, and one belt. They were donated to the University of California Berkeley by Cornelius E. Rumsey. How Rumsey came into possession of the items unclear, but most likely, the items are part of the set of doctoring regalia that Krober picked up from Julia Gates in 1906. Based on consultation with the Wiyot Tribe, California, these six sacred objects items are also objects of cultural patrimony.

In 1929, eight cultural items were removed from a location near Humboldt Bay, in Humboldt County, CA. The items are one bluebird and yellow hammer headdress, three condor feathers, one pipe, one pipe scabbard, one belt, and one deerskin. Their transfer to UC Berkeley was arranged by Ms. Martha Herricks. These items comprise a set of doctoring regalia. Most likely, this set was created by Julia Gates and subsequently was passed on to Winnie Buckley, who was a Wiyot “sucking doctor.” According to oral tradition and cultural practice, such a transfer would have been considered a loan. Based on consultation with the Wiyot Tribe, California, these eight sacred objects items are also objects of cultural patrimony.

The cultural affiliation of the 21 cultural items listed above is to the Wiyot Tribe, California. This affiliation is supported by museum records, ethnographic sources, historical sources and newspapers, oral tradition, and other information provided through consultation with tribal representatives.

Determinations Made by the University of California Berkeley

Officials of the University of California Berkeley have determined that:

• Pursuant to 25 U.S.C. 3001(3)(C), the 21 cultural items described above are specific ceremonial objects needed by traditional Native American religious leaders for the practice of traditional Native American religions by their present-day adherents.

• Pursuant to 25 U.S.C. 3001(3)(D), the 21 cultural items described above have ongoing historical, traditional, or cultural importance central to the Native American group or culture itself, rather than property owned by an individual.

• Pursuant to 25 U.S.C. 3001(2), there is a relationship of shared group identity that can be reasonably traced between the sacred objects and objects of cultural patrimony and the Wiyot Tribe, California (previously listed as Table Bluff Reservation—Wiyot Tribe).

Additional Requestors and Disposition

Lineal descendants or representatives of any Indian Tribe or Native Hawaiian organization not identified in this notice that wish to claim these cultural items should submit a written request with information in support of the claim to Dr. Thomas Torma, NAGPRA Liaison, Office of the Vice Chancellor for Research, University of California Berkeley, 119 California Hall, Berkeley, CA 94720-1500, telephone (510) 672-5388, email t.torma@berkeley.edu, by November 16, 2020. After that date, if no additional claimants have come forward, transfer of control of the sacred objects and objects of cultural patrimony to the Wiyot Tribe, California (previously listed as Table Bluff Reservation—Wiyot Tribe) may proceed.

The University of California, Berkeley is responsible for notifying the Wiyot Tribe, California (previously listed as Table Bluff Reservation—Wiyot Tribe) that this notice has been published.

Dated: September 28, 2020.
Melanie O'Brien,
Manager, National NAGPRA Program.

[FR Doc. 2020-22920 Filed 10-15-20; 8:45 am]

BILLING CODE 4312-52-P